DEPARTMENT OF TRANSPORTATION

Federal Aviation Administration

[Docket No. FAA-2120-1086]

Agency Information Collection Activities: Requests for Comments; Clearance of a Renewed Approval of Information Collection: Aviation Maintenance Technician Schools

AGENCY: Federal Aviation Administration (FAA), DOT.

ACTION: Notice and request for comments.

SUMMARY: In accordance with the Paperwork Reduction Act of 1995, FAA invites public comments about our intention to request the Office of Management and Budget (OMB) approval to renew an information collection. The collection involves Aviation Maintenance Technician School (AMTS) applicants and certificate holders. The information to be collected will be used to ensure AMTS applicants and certificate holder meet the requirements of part 147 prior to being certificated, and on an ongoing basis following FAA certification.

DATES: Written comments should be submitted by January 24, 2022.

ADDRESSES: Please send written comments:

By Electronic Docket: www.regulations.gov (Enter docket number into search field).

By email: Tanya Glines, Tanya.glines@faa.gov.

FOR FURTHER INFORMATION CONTACT: Tanya Glines by email at: Tanya.glines@faa.gov; phone: 202-380-5896.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0040.

Title: Aviation Maintenance Technician Schools.

Form Numbers: FAA Form 8310-6.

Type of Review: This is a renewal of an information collection.

Background: 14 CFR part 147. The collection of information includes both reporting and recordkeeping requirements related to AMTS. The information collected is provided to the certificate holder/applicant's appropriate FAA Flight Standards office in order to allow the FAA to determine compliance with the part 147 requirements for obtaining and/or retaining an FAA air agency certificate. For applicants, when all part 147 requirements have been met, an FAA air agency certificate is issued, with the appropriate ratings. For FAA-certificated AMTS, the FAA uses the information collected to determine if the AMTS provides appropriate training using an FAA-approved curriculum, keeps records that demonstrate each students training, and to ensure that AMTS graduates receive an appropriate document showing the graduate is eligible to take the FAA tests required to obtain a mechanic certificate.

Respondents: Approximately 10 AMTS applicants, and 182 FAA-certificated applicants respond to this collection annually.

Frequency: AMTS applicants respond one time, prior to certification. FAA-certificated AMTS respond occasionally after certification, and have ongoing recordkeeping requirements.

Estimated Average Burden per Response: 96 hours.

Estimated Total Annual Burden: 54,957 hours/year.

Issued in Washington, DC, on November 17, 2021.
Tanya A. Glines,
Aviation Safety Inspector, FAA Safety Standards, Aircraft Maintenance Division.

[FR Doc. 2021-25472 Filed 11-22-21; 8:45 am]

BILLING CODE 4910-13-P